DEPARTMENT OF THE TREASURY

Internal Revenue Service

26 CFR Part 1

[TD 8897]

RIN 1545-AQ91

Rules for Property Produced in a Farming Business; Correction

AGENCY: Internal Revenue Service (IRS), Treasury.

ACTION: Correction of final regulations.

SUMMARY: This document contains corrections to final regulations relating to the application of section 263A of the Internal Revenue Code to property produced in the trade or business of farming. This document was published in the Federal Register on August 21, 2000 (65 FR 50638).

EFFECTIVE DATE: August 21, 2000.

FOR FURTHER INFORMATION CONTACT: Grant D. Anderson (202) 622-4970 (not a toll-free number).

SUPPLEMENTARY INFORMATION:

Need for Correction

As published, the final regulations (TD 8897) contain errors that may prove to be misleading and are in need of clarification.

Correction of Publication

Accordingly, the publication of the final regulations (TD 8897), which were the subject of FR Doc. 00-21103, is corrected as follows:

1. On page 50638, column 3, in the preamble under the paragraph heading, “Background”, line 3, the language “proposed rulemaking (REG-208151-91)” is corrected to read “proposed rulemaking (REG-209316-86)''.

2. On page 50640, column 3, paragraph 1, line 14, the language “I.R.B. (Sept. 5, 2000)) issued” is corrected to read “I.R.B. 256 (Sept. 5, 2000)) issued”.

PART 1—[CORRECTED]

§ 1.263A-1 [Corrected]

3. On page 50644, column 2, in amendatory instruction Par. 5., remove item designations for items “1.” and “2.” and correctly designate the items “2.” and “3.”, respectively. Add new item “1.” to read as follows:

1. The last sentence of paragraph (a)(3)(v) is revised.

4. On page 50644, column 2, § 1.263A-1, remove the five asterisks following the section heading and add the following language for the last sentence of paragraph (a)(3)(v) to read as follows:

§ 1.263A-1 Uniform capitalization of costs.

(a) * * *

(3) * * *

(v) * * * See sections 263A(d) and 263A(e) and § 1.263A-4 for rules relating to taxpayers engaged in a farming business.

* * * * *

§ 1.263A-4 [Corrected]

5. On page 50644, column 3, § 1.263A-4, paragraph (a)(2)(i)(B), line 3, the language “disbursements method under section” is corrected to read “disbursements method of accounting (cash method) under section”.

6. On page 50648, column 3, § 1.263A-4, paragraph (d)(2), line 5 from the top of the column, the language “required to use the accrual method” is corrected to read “required to use an accrual method”.

Cynthia E. Grigsby,
Chief, Regulations Unit, Office of Special Counsel (Modernization & Strategic Planning).

[FR Doc. 00-25998 Filed 10-13-00; 8:45 am]

BILLING CODE 4830-01-P